DEPARTMENT OF DEFENSE

Department of the Army

32 CFR Part 650

Environmental Protection and Enhancement

AGENCY: Department of the Army, DoD.

ACTION: Final rule; removal.

SUMMARY: This action removes 32 CFR part 650, Environmental Protection and Enhancement, published in the Federal Register, December 29, 1977 (42 FR 65026). The rule is being removed because it is now obsolete and does not affect the general public.

DATES: Effective July 20, 2007.

ADDRESSES: Headquarters, Department of the Army, Office of the Assistant Chief of Staff for Installation Management, ATTN: DAIM-ED, 600 Army Pentagon, Washington, DC 20310-0600.

FOR FURTHER INFORMATION CONTACT: Mr. Douglas Warnock, (703) 601-1573.

SUPPLEMENTARY INFORMATION: The Office of the Assistant Chief of Staff for Installation Management, is the proponent for the regulation represented in 32 CFR part 650, and has concluded this regulation is obsolete. This regulation has been extensively revised and has been determined that the procedures prescribed in the regulation are for Army officials, and not intended to be enforced against any member of the public. As a result, the regulation does not affect the general public. Therefore, it would be helpful in avoiding confusion with the public if 32 CFR part 650, is removed.

List of Subjects in 32 CFR Part 650

Air pollution control, Environmental protection, Federal buildings and facilities, Hazardous substances, Historic preservation, Noise control, Waste treatment and disposal, Water pollution control.

PART 650—[REMOVED]

Accordingly, for reasons stated in the preamble, under the authority of 10 U.S.C. 3012, 32 CFR part 650, Environmental Protection and Enhancement, is removed in its entirely.

Brenda S. Bowen,
Army Federal Register Liaison Officer.

[FR Doc. 07-3538 Filed 7-19-07; 8:45 am]

BILLING CODE 3710-08-M